DEPARTMENT OF THE TREASURY

Submission for OMB Review; Comment Request

August 29, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 6, 2005 after to be assured of consideration.

Internal Revenue Service (IRS)

OMB Number: 1545-0120.

Type of Review: Extension.

Title: Certain Government Payments.

Form: IRS form 1099-G.

Description: Form 1099-G is used by governments (primarily state and local) to report to the IRS (and notify recipients of) certain payments (e.g., unemployment compensation and income tax refunds). IRS uses the information to insure that the income is being properly reported by the recipients on their returns.

Respondents: Federal Government and State, local or tribal government

Estimated Total Burden Hours: 12,200,000 hours.

OMB Number: 1545-0184.

Type of Review: Extension.

Title: Sales of Business Property.

Form: IRS form 4797.

Description: Form 4797 is used by taxpayers to report sales, exchanges, or involuntary conversion of assets, other than capital assets, and involuntary conversion of capital assets held more than one year. It is also used to compute ordinary income from recapture and the recapture of prior year section 1231 losses.

Respondents: Individuals or Households and Business or other-for-profit.

Estimated Total Burden Hours: 70,711,075 hours.

OMB Number: 1545-0941.

Type of Review: Extension.

Title: Report of a Sale or Exchange of Certain Partnership Interests.

Form: IRS form 8308.

Description: Form 8308 is an information return that gives the IRS the names of the parties involved in a section 751(a) exchange of a partnership interest. It is also used by the partnership as a statement to the transferor or transferee. It alerts the transferor that a portion of the gain on the sale of a partnership interest may be ordinary income.

Respondents: Individuals or households, Business or other-for-profit, Farms and State, local or tribal government.

Estimated Total Burden Hours: 1,460,000 hours.

OMB Number: 1545-1791.

Type of Review: Extension.

Title: Tax Check Waiver.

Form: IRS form 12339-A.

Description: The tax check waiver is necessary for the purpose of ensuring that all panel members are tax compliant. Information provided will be used to qualify or disqualify individuals to serve as panel members. The information will be used as appropriate by the Taxpayer Advocate service staff, and other appropriate IRS personnel.

Respondents: Individuals or households and Business or other-for-profit.

Estimated Total Burden Hours: 42 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. 05-17565 Filed 9-2-05; 8:45 am]

BILLING CODE 4830-01-P